ENVIRONMENTAL PROTECTION AGENCY

[ER-FRL-6620-6]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in FR dated April 14, 2000 (65 FR 20157).

Draft EISs

ERP No. D-AFS-J65345-MT Rating EC2, Pink Stone Fire Recovery and Associated Activities, To Reduce Existing and Expected Future Fuel Accumulations, Kootena National Forest, Rexford Ranger District, Lincoln County, MT.

Summary: EPA expressed environmental concerns with adverse impacts of timber harvest to fire stressed streams with increased peak flows. EPA recommended that the final EIS assure that the preferred alternative avoid and minimize further adverse impacts to already fire stressed water bodies and include the necessary monitoring and mitigation of watershed effects.

ERP No. D-AFS-L65373-AK Rating EO2, Gravina Island Timber Sale, Implementation, Timber Harvest and Related Activities, Ketchikan-Misty Fiords Ranger District, Tongass National Forest, AK.

Summary: EPA expressed environmental objections to the severity of impacts from building and operating new roads in roadless areas, cumulative impacts to adjacent non-federal lands, to old growth forest and associated deer habitat, to an important subsistence resource, and to aquatic resources. EPA recommends that the final EIS further analyze cumulative impacts, the range of alternatives, including a new alternative that combines helicopter and ground based harvest and mitigation measures, such as better management of forest roads following timber harvest, including road obliteration.

ERP No. D-FHW-G40165-NM Rating LO, US 70 Corridor Improvement, Between Ruidoso Downs to Riverside, Implementation, Right-of-Way Acquisition, Lincoln County, NM.

Summary: EPA has no objections to the selection of the preferred alternative with implementation of the mitigation measures as described in the DEIS. The final mitigation plan must be incorporated into the Record of Decision Document as presented in the Final EIS.

ERP No. D-FHW-G40166-LA Rating EC2, I-49 Connector, Construction from Evangeline Thruway US-90 and US-197 in Urbanized Lafayette, Funding, COE Section 10 and 404 Permits, Parish of Lafayette, LA.

Summary: EPA expressed environmental concerns regarding air quality, water resources, solid waste sites, and mitigation commitments. EPA suggested additional information be presented in the FEIS regarding these issues.

ERP No. D-FHW-K40244-CA Rating EC2, CA-120 Oakdale Expressway Project, Construction and Operation, Post Mile 3.0 to Post Mile R12.9 near Oakdale, Funding, US Army COE Section 404 and NPDES Permits Issuance, Stanislaus County, CA.

Summary: EPA supported the need to alleviate congestion and improve safety, but expressed concern with potential indirect and cumulative impacts and the adequacy of proposed mitigation measures. EPA also acknowledged that Alternative 2A appeared to have the least environmental impacts on high quality riparian forest, oak woodlands, and specific threatened and endangered species and appeared to have the most balanced earthwork and minimal to moderate impacts on agricultural lands, business and home relocations, utilities, and visual quality.

ERP No. D-FTA-E54010-NC Rating EC1, Phase I Regional Rail System Improvements, Durham to Raleigh to North Raleigh, Implementation, Durham and Wake Counties, NC.

Summary: EPA expressed concerns regarding wetlands, noise, and minority and low-income populations impacts.

ERP No. D-FTA-K54024-CA Rating EC2, San Fernando Valley East-West Transit Corridor Project, Bus Rapid Transit ((BRT) ) on former Burbank/Chandler Southern Pacific Rail, Right-of-Way, Development and Implementation, Los Angeles County. CA.

Summary: EPA expressed concerns regarding air conformity analysis and the provision of adequate mitigation measures as well as the potential environmental justice impacts of the park-and-ride facility proposed at the Oxnard/Van Nuys Station. EPA requested additional analysis and documentation on both of these issues.

Final EISs

ERP No. F-FHW-G40159-TX, US Highway 183 Alternate Project, Improvements from RM-620 to Approximately Three Miles North of the City of Lander, Williamson County, TX.

Summary: EPA had no additional comments to offer on the FEIS.

ERP No. F-FHW-K40219-CA, U.S. Highway 101 Transportation Improvement Project, between Vineyard Avenue to Johnson Drive, Funding, in the Cities of Oxnard and San Buenaventura, Ventura County, CA.

Summary: EPA is satisfied that the FEIS has adequately addressed our comments in the DEIS and the supplemental DEIS.

ERP No. F-FTA-K54025-CA, ADOPTION—64-Acre Tract Intermodal Transit Center, Construction and Operation, Lake Tahoe Basin Management Unit, Tahoe City, Placer County, CA.

Summary: No formal comment letter was sent to the preparing agency.

ERP No. F-IBR-K38007-CA, Grassland Bypass Project (2001 Use Agreement), New Use Agreement for a Period from October 1, 2001 through December 21, 2009, Implementation, San Joaquin River and Merced River, Fresno, Merced and Stanslaus Counties, CA.

Summary: ERP No. F-JUS-L81012-WA Tacoma/Seattle Area Detention Center, Construction and Leasing, Pierce County, WA.

Summary: No formal comment letter was sent to the preparing agency.

ERP No. F-NRC-E06020-GA, Generic EIS—Edwin I. Hatch Nuclear Plant, Unit 1 and 2, License Renewal of Nuclear Plants, Supplement 4 to NUREG-1437, Altamaha River, Appling County, GA.

Summary: EPA continues to have environmental concerns about the project. Specifically, surface and groundwater use conflicts and future implementation plans merit further discussion as the project progresses.

Dated: July 31, 2001.
Joseph C. Montgomery,
Director, NEPA Compliance Division, Office of Federal Activities

[FR Doc. 01-19506 Filed 8-2-01; 8:45 am]

BILLING CODE 6560-50-P